DEPARTMENT OF ENERGY

Federal Energy Regulatory Commission

[Docket No. RP97-255-006

TransColorado Gas Transmission Company; Notice of Tariff Filing

DATES: April 6, 2000.

ADDRESSES: Take notice that on March 29, 2000, TransColorado Gas Transmission Company (TransColorado) tendered for filing as part of its FERC Gas Tariff, Original Volume No. 1, Sixth Revised Sheet No. 21, to be effective April 1, 2000.

TransColorado states that the filing is being made in compliance with the Commission's letter order issued March 20, 1997, in Docket No. RP97-255-000.

TransColorado states that the tendered tariff sheets revises TransColorado's Tariff to implement a new negotiated-rate transportation service agreement between TransColorado and Duke Energy Trading and Marketing, LLC, to be effective April 1, 2000. TransColorado requested wavier of 18 CFR 154.207 so that the tendered tariff sheet may become effective April 1, 2000.

TransColorado states that a copy of this filing has been served upon all parties to this proceeding. TransColorado's customers, the Colorado Public Utilities Commission and New Mexico Public Regulatory Commission.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-9034 Filed 4-11-00; 8:45 am]

BILLING CODE 6717-01-M